DEPARTMENT OF THE INTERIOR

Bureau of Land Management

[LLNVB0l000.L71220000.EX0000.LVTFF1486020 MO# 4500101184]

Notice of Intent To Prepare an Environmental Impact Statement for the Proposed Deep South Expansion Project, Lander and Eureka Counties, NV

AGENCY: Bureau of Land Management, Interior.

ACTION: Notice.

SUMMARY: Pursuant to the National Environmental Policy Act of 1969, as amended (NEPA), and the Federal Land Policy and Management Act of 1976, as amended, the Bureau of Land Management (BLM) Mount Lewis Field Office, Battle Mountain, Nevada, intends to prepare an Environmental Impact Statement (EIS) to analyze the potential impacts of approving the proposed Deep South Expansion Project in Lander and Eureka Counties, Nevada. This notice announces the beginning of the scoping process to solicit public comments and identify issues and alternatives; and serves to initiate public consultation, as required, under the National Historic Preservation Act (NHPA).

DATES: This notice initiates the public scoping process for the EIS. Comments on issues may be submitted in writing until May 1, 2017. The date(s) and location(s) of any scoping meetings will be announced at least 15 days in advance through local media, newspapers and the BLM Web site at: http://www.blm.gov/nv/st/en/fo/battle_mountain_field.html. In order to be considered during the preparation of the Draft EIS, all comments must be received or postmarked prior to the close of the 30-day scoping period or 15 days after the last public meeting, whichever is later.

Comments received after the close of the 30-day scoping period will be considered as long as they are received or postmarked prior to 15 days after the last public meeting. The BLM will provide additional opportunities for public participation upon publication of the Draft EIS.

ADDRESSES: You may submit comments related to the proposed Deep South Expansion Project by any of the following methods:

• Email: BLM_NV _BMDO_MLFO_DeepSouthEIS@blm.gov

• Fax: 775-635-4034

• Mail: 50 Bastian Road, Battle Mountain, NV 89820

FOR FURTHER INFORMATION CONTACT: Andrea Dolbear, Project Manager, telephone: 775-635-4000; and at the addresses or fax number above.. Contact Mrs. Dolbear if you wish to add your name to our mailing list. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: Barrick Cortez, Inc. is proposing modifications to the existing Deep South Project Plan of Operations (Project) which is located in Eureka and Lander Counties, south of Crescent Valley, Nevada. The proposed modifications include the following activities:

• Deepen the existing Crossroads Pit (Pipeline Complex) by 200 feet to 3,200 feet above mean sea level (amsl) and reconfigure the backfill. Three backfill scenarios are being evaluated at this time;

• Add Stage 11 to the existing Pipeline Pit;

• Expand the existing Gold Acres Pit Complex and expand the waste rock facility (WRF);

• Expand the existing Cortez Hills underground gold mine by increasing the depth of mining from the currently authorized floor of 3,800 feet amsl to 2,500 feet amsl;

• Expand the Pediment portion of the Cortez Hills Pit and shift the Plan of Operations boundary to the east by about 800 feet;

• Partially backfill the existing Cortez Hills Pit;

• Construct an additional water treatment plant in the Cortez Hills Complex;

• Expand the existing Cortez Pit and WRF;

• The maximum dewatering rate will remain below the authorized rate of 36,100 gpm;

• Add Rapid Infiltration Basins (RIBs), laydown areas and surface pipelines on fee land outside of the Plan of Operations boundary in Crescent Valley;

• Construct additional RIBs and surface pipelines, laydown areas and a booster station in Grass Valley and Pine Valley;

• Construct, if necessary, a water reservoir and pipelines for dewatering water management at Rocky Pass, construct a water line from the reservoir to the Dean Ranch, and construct a bypass road for public access; and

• Various additions/revisions to Facilities and Ancillary Disturbance:

○ Expand the plan boundary to capture proposed facilities;

○ Increase off site ore haulage from 1.2 to 2.5 million tons/year;

○ Modify the surface mining rate to allow up to 600,000 tons per day;

○ Expand the existing Pipeline oxide ore stockpile;

○ Add ore stockpiles;

○ Add ancillary disturbance around existing and proposed facilities;

○ Power lines, pipelines, buildings, communication sites, haul and access roads; and

○ Change the Grass Valley productions wells to injection wells and add monitor wells.

The BLM Mt. Lewis Field Office administers 54,825 acres of public lands within the plan boundary, and Cortez controls 3,268 acres of private lands. The BLM previously authorized Cortez to disturb 16,700 acres within the plan boundary. The Plan of Operations amendment (APO) would include increasing the existing approved plan boundary by 4,279 acres; from 58,093 acres to 62,372 acres. The proposed modifications will result in approximately 3,798 acres of new disturbance inside of the new proposed plan boundary. Barrick Cortez, Inc. would continue to employ the existing workforce of employees for the construction, operation, reclamation, and closure of the proposed project amendment, which is anticipated to extend the mine life by approximately another 12 years as a result of the proposed activities.

The BLM is seeking input regarding issues that may be analyzed in the EIS. The public scoping meeting provides the public and other interested agencies and organizations an opportunity to learn about the Project and to help identify issues, provide input, and propose alternatives to be addressed in the EIS before the BLM begins drafting it. Early public involvement is crucial to identify various issues that may be addressed through the process. Some of the potential anticipated issues and concerns may include:

• Water resources

• Air quality

• Vegetation resources (including noxious weeds)

• Wildlife (including migratory birds and special status species such as Greater sage grouse)

• Grazing management

• Land use and access

• Aesthetics (noise and visual)

• Cultural resources

• Geological resources (including minerals and soils)

• Recreation

• Social and economic values

• hazardous materials

• Native American cultural concerns

• Closure methodology

Public involvement is an important part of the NEPA process. The level of public involvement varies with the different types of NEPA compliance and decision-making. Public involvement begins early in the NEPA process, with scoping, and continues throughout the preparation of the analysis and the decision. The CEQ Regulations require that agencies “make diligent efforts to involve the public in preparing and implementing their NEPA procedures” (40 CFR 1506.6(a)). There are a wide variety of ways to engage the public in the NEPA process. The purpose of public scoping is to ensure that all interested and affected parties are aware of the proposed action.

The BLM will use and coordinate the NEPA scoping process to help fulfill the public involvement process under the NHPA as provided in 42 CFR 800.2(d)(3). The information about historic and cultural resources within the area potentially affected by the proposed project will assist the BLM in identifying and evaluating impacts to such resources in the context of both NEPA and the NHPA.

The BLM will consult with Native American tribes on a government-to-government basis in accordance with Executive Order 13175 and other policies. Tribal concerns, including impacts on Indian trust assets and potential impacts to cultural resources, will be given due consideration.

Federal, State, and local agencies, along with tribes and other stakeholders that may be interested in or affected by the proposed project that the BLM is evaluating, are invited to participate in the scoping process and, if eligible, may request or be requested by the BLM to participate in the development of the EIS as a cooperating agency. Comments and materials we receive, as well as supporting documentation we use in preparing the EIS, will be available for public inspection during normal business hours at the Mount Lewis Field Office (see ADDRESSES section, above).

Before including your address, phone number, email address, or other personal identifying information in your comment, you should be aware that your entire comment—including your personal identifying information—may be made publicly available at any time. While you may request in your comment that your personal identifying information be withheld from public review, we cannot guarantee that we will be able to do so.

Authority: 40 CFR 1501.7

Jon D. Sherve,
Field Manager, Mount Lewis Field Office.

[FR Doc. 2017-06190 Filed 3-28-17; 8:45 am]

BILLING CODE 4310-HC-P